DEPARTMENT OF ENERGY

Federal Energy Regulatory Commission

Combined Notice of Filings #1

Take notice that the Commission received the following electric rate filings:

Docket Numbers: ER19-2462-002; ER18-2264-005; ER19-289-005;

ER11-4111-002.

Applicants: Macquarie Energy LLC, Macquarie Energy Trading LLC, Cleco Cajun LLC, Hudson Ranch Power I LLC.

Description: Supplement to November 30, 2020 Notice of Non-Material Change in Status of Macquarie Energy LLC, et al.

Filed Date: 2/2/21.

Accession Number: 20210202-5023.

Comments Due: 5 p.m. ET 2/23/21.

Docket Numbers: ER10-2906-017; ER10-2908-017; ER11-4393-011; ER11-4669-009; ER11-4670-009; ER12-709-008; ER19-1716-005.

Applicants: Morgan Stanley Capitol Group Inc., MS Solar Solutions Corp., Morgan Stanley Energy Structuring, L.L.C, TAQA Gen X LLC, Naturener Montana Wind Energy, LLC, NaturEner Power Watch, LLC, NaturEner Wind Watch, LLC.

Description: Notice of Non-Material Change in Status of Morgan Stanley Capital Group Inc., et al.

Filed Date: 2/1/21.

Accession Number: 20210201-5264.

Comments Due: 5 p.m. ET 2/22/21.

Docket Numbers: ER20-1743-001.

Applicants: Gulf Power Company.

Description: Compliance filing: Notice of Effective Date and Compliance Filing to be effective 1/1/2021.

Filed Date: 1/29/21.

Accession Number: 20210129-5188.

Comments Due: 5 p.m. ET 2/19/21.

Docket Numbers: ER20-2283-002.

Applicants: Midcontinent Independent System Operator, Inc.

Description: Compliance filing: 2021-02-02_SA 3517 Substitute Deficiency Response NSP-MDU FSA (J316) to be effective 7/1/2020.

Filed Date: 2/2/21.

Accession Number: 20210202-5083.

Comments Due: 5 p.m. ET 2/23/21.

Docket Numbers: ER21-304-001.

Applicants: Cherokee County Cogeneration Partners, LLC.

Description: Tariff Amendment: Response to Request for Additional Information to be effective 1/1/2021.

Filed Date: 2/1/21.

Accession Number: 20210201-5216.

Comments Due: 5 p.m. ET 2/22/21.

Docket Numbers: ER21-610-001.

Applicants: PJM Interconnection, L.L.C.

Description: Tariff Amendment: Request to Defer Action: Revised ISA, SA No. 1503; Queue No. AD2-001 to be effective 12/31/9998.

Filed Date: 2/1/21.

Accession Number: 20210201-5202.

Comments Due: 5 p.m. ET 2/22/21.

Docket Numbers: ER21-1015-000.

Applicants: PacifiCorp.

Description: § 205(d) Rate Filing: OATT Revised Ancillary Services Rate Case Settlement Filing to be effective1/1/2021.

Filed Date: 2/1/21.

Accession Number: 20210201-5213.

Comments Due: 5 p.m. ET 2/22/21.

Docket Numbers: ER21-1016-000.

Applicants: PJM Interconnection, L.L.C.

Description: Petition for Limited Waiver of PJM Interconnection, L.L.C.

Filed Date: 1/29/21.

Accession Number: 20210129-5439.

Comments Due: 5 p.m. ET 2/19/21.

Docket Numbers: ER21-1017-000.

Applicants: NorthWestern Corporation.

Description: Annual Filing of Revised Costs and Accruals for Post-Employment Benefits Other than Pensions of NorthWestern Corporation.

Filed Date: 2/1/21.

Accession Number: 20210201-5265.

Comments Due: 5 p.m. ET 2/22/21.

Docket Numbers: ER21-1018-000.

Applicants: New York Independent System Operator, Inc.

Description: § 205(d) Rate Filing: 205: Procuring Operating Reserves and Supplemental Reserves in the NYCA to be effective 12/31/9998.

Filed Date: 2/2/21.

Accession Number: 20210202-5058.

Comments Due: 5 p.m. ET 2/23/21.

Docket Numbers: ER21-1019-000.

Applicants: Duke Energy Florida, LLC.

Description: Tariff Cancellation: DEF-DEF Notice of Termination RS No. 331 to be effective 4/4/2021.

Filed Date: 2/2/21.

Accession Number: 20210202-5092.

Comments Due: 5 p.m. ET 2/23/21.

Docket Numbers: ER21-1020-000.

Applicants: Midcontinent Independent System Operator, Inc., ALLETE, Inc.

Description: § 205(d) Rate Filing: 2021-02-02_ALLETE Depreciation Rate Filing to be effective 1/1/2020.

Filed Date: 2/2/21.

Accession Number: 20210202-5107.

Comments Due: 5 p.m. ET 2/23/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2021.
Nathaniel J. Davis, Sr.,
Deputy Secretary.

[FR Doc. 2021-02502 Filed 2-5-21; 8:45 am]

BILLING CODE 6717-01-P